DEPARTMENT OF TRANSPORTATION

Federal Aviation Administration

14 CFR Part 39

[Docket No. FAA-2014-0254; Directorate Identifier 2013-NM-047-AD; Amendment 39-17910; AD 2014-15-08]

RIN 2120-AA64

Airworthiness Directives; Beechcraft Corporation (Type Certificate Previously Held by Hawker Beechcraft Corporation; Raytheon Aircraft Company) Airplanes

AGENCY: Federal Aviation Administration (FAA), DOT.

ACTION: Final rule.

SUMMARY: We are adopting a new airworthiness directive (AD) for certain Beechcraft Corporation (Type Certificate Previously Held by Hawker Beechcraft Corporation; Raytheon Aircraft Company) Model Hawker 800XP, 850XP, and 900XP airplanes. This AD was prompted by a design review that revealed there were no instructions to apply sealant to structural components in the fuel tank during the winglet installation process. This AD requires an inspection for the presence of sealant on doubler plate edges, doubler plate rivets, and adjacent skin in the fuel vent surge tanks; and corrective actions if necessary. We are issuing this AD to detect and correct missing sealant, which, during a lightning strike, could result in a potential source of ignition in a fuel tank and consequent explosion or fire and subsequent in-flight breakup of the airplane.

DATES: This AD is effective September 5, 2014.

The Director of the Federal Register approved the incorporation by reference of a certain publication listed in this AD as of September 5, 2014.

ADDRESSES: For service information identified in this AD, contact Beechcraft Corporation, TMDC, P.O. Box 85, Wichita, KS 67201-0085; telephone 316-676-8238; fax 316-671-2540; email tmdc@beechcraft.com; Internet http://pubs.beechcraft.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0254; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Jeffrey Englert, Aerospace Engineer, Mechanical Systems and Propulsion Branch, ACE-116W, FAA, Wichita Aircraft Certification Office, 1801 Airport Road, Room 100, Mid-Continent Airport, Wichita, KS 67209; phone: 316-946-4167; fax: 316-946-4107; email: jeffrey.englert@faa.gov.

SUPPLEMENTARY INFORMATION:

Discussion

We issued a notice of proposed rulemaking (NPRM) to amend 14 CFR part 39 by adding an AD that would apply to certain Beechcraft Corporation (Type Certificate Previously Held by Hawker Beechcraft Corporation; Raytheon Aircraft Company) Model Hawker 800XP, 850XP, and 900XP airplanes. The NPRM published in the Federal Register on April 24, 2014 (79 FR 22783). The NPRM was prompted by a design review that revealed there were no instructions to apply sealant to structural components in the fuel tank during the winglet installation process. The sealant is part of the lightning protection design for the fuel tanks. The NPRM proposed to require an inspection for the presence of sealant on doubler plate edges, doubler plate rivets, and adjacent skin in the fuel vent surge tanks; and corrective actions if necessary. We are issuing this AD to detect and correct missing sealant, which, during a lightning strike, could result in a potential source of ignition in a fuel tank and consequent explosion or fire and subsequent in-flight breakup of the airplane.

Comments

We gave the public the opportunity to participate in developing this AD. We received no comments on the NPRM (79 FR 22783, April 24, 2014) or on the determination of the cost to the public.

Conclusion

We reviewed the relevant data and determined that air safety and the public interest require adopting this AD as proposed except for minor editorial changes. We have determined that these minor changes:

• Are consistent with the intent that was proposed in the NPRM (79 FR 22783, April 24, 2014) for correcting the unsafe condition; and

• Do not add any additional burden upon the public than was already proposed in the NPRM (79 FR 22783, April 24, 2014).

Costs of Compliance

We estimate that this AD affects 50 airplanes of U.S. registry.

We estimate the following costs to comply with this AD:

Estimated Costs
Action | Labor cost | Parts cost | Cost per product | Cost on U.S. operators
Inspection | 2 work-hours × $85 per hour = $170 | None | $170 | $8,500

We estimate the following costs to do any necessary repairs that would be required based on the results of the inspection. We have no way of determining the number of aircraft that might need these repairs:

On-Condition Costs
Action | Labor cost | Parts cost | Cost per product
Sealant application | 36 work-hours × $85 per hour = $3,060 | $32 | $3,092

According to the manufacturer, all of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-15-08 Beechcraft Corporation (Type Certificate Previously Held by Hawker Beechcraft Corporation; Raytheon Aircraft Company): Amendment 39-17910; Docket No. FAA-2014-0254; Directorate Identifier 2013-NM-047-AD.

(a) Effective Date

This AD is effective September 5, 2014.

(b) Affected ADs

None.

(c) Applicability

This AD applies to Beechcraft Corporation (Type Certificate previously held by Hawker Beechcraft Corporation; Raytheon Aircraft Company) Model Hawker 800XP, 850XP, and 900XP airplanes, certificated in any category, all serial numbers.

(d) Subject

Air Transport Association (ATA) of America Code 28, Fuel.

(e) Unsafe Condition

This AD was prompted by a design review that revealed there were no instructions to apply sealant to structural components in the fuel tank during the winglet installation process. We are issuing this AD to detect and correct missing sealant, which, during a lightning strike, could result in a potential source of ignition in a fuel tank and consequent explosion or fire and subsequent in-flight breakup of the airplane.

(f) Compliance

Comply with this AD within the compliance times specified, unless already done.

(g) Inspection and Corrective Action

For airplanes identified in paragraphs (g)(1), (g)(2), and (g)(3) of this AD: Within 600 flight hours or 12 months after the effective date of this AD, whichever occurs first, do a general visual inspection for the presence of sealant on doubler plate edges, doubler plate rivets, and adjacent skin in the top and bottom of the left and right fuel vent surge tanks, and do all applicable corrective actions, in accordance with the Accomplishment Instructions of Hawker Beechcraft Service Bulletin SB 57-4112, dated February 2013, except as required by paragraph (i) of this AD. Do all applicable corrective actions before further flight.

(1) Any Beechcraft Corporation (Type Certificate previously held by Hawker Beechcraft Corporation; Raytheon Aircraft Company) Model Hawker 800XP airplane, serial numbers 258324, 258326 through 258332 inclusive, 258334 through 258340 inclusive, 258342 through 258347 inclusive, 258349 through 258359 inclusive, 258361 through 258369 inclusive, 258371 through 258380 inclusive, 258382 through 258406 inclusive, 258408 through 258426 inclusive, 258428 through 258444 inclusive, 258446 through 258468 inclusive, 258470 through 258492 inclusive, 258494 through 258512 inclusive, 258514 through 258532 inclusive, 258534 through 258540 inclusive, 258542 through 258555 inclusive, 258557 through 258566 inclusive, 258278, 258541, 258556, 258567 through 258609 inclusive, 258611 through 258628 inclusive, 258630 through 258684 inclusive, 258686 through 258734 inclusive, 258736 through 258788 inclusive, 258795, 258802, 258821, 258825, 258829, 258834, 258840, and 258847; equipped with a kit numbered 140-1701-1, 140-1702-1, 140-1703-1,140-1703-5, 140-1703-7, or 140-1704-1 that was purchased from Hawker Beechcraft on or before February 13, 2013.

(2) Any Beechcraft Corporation (Type Certificate previously held by Hawker Beechcraft Corporation; Raytheon Aircraft Company) Model Hawker 850XP airplane having serial numbers 258789 through 258794 inclusive, 258796, 258798 through 258801 inclusive, 258803 through 258819 inclusive, 258822, 258823, 258826 through 258828 inclusive, 258830 through 258833 inclusive, 258835 through 258838 inclusive, 258841, 258844, 258845, 258848, 258852, 258855, 258856, 258858, 258859, 258861, 258872, 258874, 258876, 258891, 258893, 258895, 258900, 258901, 258904, 258907, 258909, 258912, 258915, 258921, 258959, 258961, 258963, 258977, 258980, 258982, and subsequent serial numbers; equipped with a kit numbered 140-1701-1, 140-1702-1, 140-1703-1, 140-1703-5, 140-1703-7, or 140-1704-1 that was purchased on or before February 13, 2013.

(3) Beechcraft Corporation (Type Certificate previously held by Hawker Beechcraft Corporation; Raytheon Aircraft Company) Model Hawker 900XP airplanes having serial numbers HA-0156 and HA-0159.

(h) Definition

For the purposes of this AD, a general visual inspection is a visual examination of an interior or exterior area, installation, or assembly to detect obvious damage, failure, or irregularity. This level of inspection is made from within touching distance unless otherwise specified. A mirror may be necessary to ensure visual access to all surfaces in the inspection area. This level of inspection is made under normally available lighting conditions such as daylight, hangar lighting, flashlight, or droplight and may require removal or opening of access panels or doors. Stands, ladders, or platforms may be required to gain proximity to the area being checked.

(i) Exception to the Service Information

A note in the Accomplishment Instructions of the Hawker Beechcraft Service Bulletin SB 57-4112, dated February 2013, instructs operators to contact Hawker Beechcraft if any difficulty is encountered in accomplishing the service information. However, this AD requires that any deviation from the instructions provided in Hawker Beechcraft Service Bulletin SB 57-4112, dated February 2013, must be approved as an alternative method of compliance (AMOC) under the provisions of paragraph (k) of this AD.

(j) Parts Installation Limitation

For all airplanes: As of the effective date of this AD, no kit having kit number 140-1701-1, 140-1702-1, 140-1703-1, 140-1703-5, 140-1703-7, or 140-1704-1, that was purchased before February 13, 2013, may be installed on any airplane unless the installation includes sealant on doubler plate edges, doubler plate rivets, and adjacent skin in the top and bottom of the left and right fuel vent surge tanks, as specified in the Accomplishment Instructions of Hawker Beechcraft Service Bulletin SB 57-4112, dated February 2013.

(k) Alternative Methods of Compliance (AMOCs)

(1) The Manager, Wichita Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l) of this AD.

(2) Before using any approved AMOC, notify your appropriate principal inspector, or lacking a principal inspector, the manager of the local flight standards district office/certificate holding district office.

(l) Related Information

For more information about this AD, contact Jeffrey Englert, Aerospace Engineer, Mechanical Systems and Propulsion Branch, ACE-116W, FAA, Wichita Aircraft Certification Office, 1801 Airport Road, Room 100, Mid-Continent Airport, Wichita, KS 67209; phone: 316-946-4167; fax: 316-946-4107; email: jeffrey.englert@faa.gov.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Hawker Beechcraft Service Bulletin SB 57-4112, dated February 2013.

(ii) Reserved.

(3) For service information identified in this AD, contact Beechcraft Corporation, TMDC, P.O. Box 85, Wichita, KS 67201-0085; telephone 316-676-8238; fax 316-671-2540; email tmdc@beechcraft.com; Internet http://pubs.beechcraft.com.

(4) You may view this service information at FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on July 15, 2014.
John P. Piccola,
Acting Manager, Transport Airplane Directorate, Aircraft Certification Service.

[FR Doc. 2014-17325 Filed 7-31-14; 8:45 am]

BILLING CODE 4910-13-P